DEPARTMENT OF TRANSPORTATION

Surface Transportation Board

[STB Finance Docket No. 33847]

Nebraska Central Railroad Company—Acquisition Exemption—The Burlington Northern and Santa Fe Railway Company

Nebraska Central Railroad Company (NCRC), a Class III rail carrier, has filed a verified notice of exemption under 49 CFR 1150.41 to acquire approximately 18.2 miles of rail line owned by The Burlington Northern and Santa Fe Railway Company (BNSF). The rail line is located between milepost 17.50, near Central City, NE, and milepost 35.70, at Palmer, NE. In conjunction with the acquisition of the rail line, NCRC will acquire incidental overhead trackage rights over BNSF's rail line between milepost 52.7, at David City, NE, and milepost 66.5, at Columbus, NE, restricted to serving the facilities of Minnesota Corn Processors at Columbus.

Because the projected revenues of the rail line to be operated will exceed $5 million, NCRC certified to the Board, on January 14, 2000, that the required notice of its rail line acquisition was posted at the workplace of the employees on the affected lines on January 6, 2000. See 49 CFR 1150.42(e). The transaction was expected to be consummated on or shortly after March 14, 2000.

If the notice contains false or misleading information, the exemption is void ab initio. Petitions to revoke the exemption under 49 U.S.C. 10502(d) may be filed at any time. The filing of a petition to revoke does not automatically stay the transaction.

An original and 10 copies of all pleadings, referring to STB Finance Docket No. 33847, must be filed with the Surface Transportation Board, Office of the Secretary, Case Control Unit, 1925 K Street, N.W., Washington, DC 20423-0001. In addition, a copy of each pleading must be served on Karl Morell, Esq., Ball Janik LLP, 1455 F Street, N.W., Suite 225, Washington, DC 20005.

Board decisions and notices are available on our website at

“WWW.STB.DOT.GOV.”

Decided: March 20, 2000.
By the Board, David M. Konschnik, Director, Office of Proceedings.
Vernon A. Williams,
Secretary.

[FR Doc. 00-7470 Filed 3-24-00; 8:45 am]

BILLING CODE 4915-00-P